DEPARTMENT OF DEFENSE

Office of the Secretary

Vietnam War Commemoration Advisory Committee; Notice of Federal Advisory Committee Meeting; Amendment

AGENCY: Chief Management Officer, Vietnam War Commemoration Advisory Committee, Department of Defense.

ACTION: Notice of federal advisory committee meeting.

SUMMARY: On Wednesday, December 26, 2018, the Department of Defense (DoD) published a notice to announce that the following Federal Advisory Committee meeting of the Vietnam War Commemoration Advisory Committee will be held on February 8, 2019. Subsequent to the publication of this notice, the start time for this meeting has changed. The public is asked to arrive no later than 10:15 a.m. The meeting will begin promptly at 10:30 a.m. All other information in the December 26, 2018 notice remains the same.

DATES: Open to the public Friday, February 8, 2019 from 10:15 a.m. to 4:00 p.m.

ADDRESSES: The address of the open meeting is 241 18th Street South, Room 101, Arlington VA 22202.

FOR FURTHER INFORMATION CONTACT: Mrs. Marcia L. Moore, 703-571-2005 (Voice), 703-692-4691 (Facsimile), marcia.l.moore12.civ@mail.mil (Email) or Mr. Mark Franklin, 703-697-4849 (Voice), mark.r.franklin.civ@mail.mil (Email). Mailing address is DOD Vietnam War Commemoration Program Office, 241 18th Street South, Suite 101, Arlington, VA 22202. Website: http://www.vietnamwar50th.com. The most up-to-date changes to the meeting agenda can be found on the website.

SUPPLEMENTARY INFORMATION: Due to circumstances beyond the control of the Department of Defense (DoD) and the Designated Federal Officer, the Vietnam War Commemoration Advisory Committee was unable to provide public notification required by 41 CFR 102-3.150(a) concerning its need to amend the previously published notice about the February 8, 2019 meeting of the Vietnam War Commemoration Advisory Committee. Accordingly, the Advisory Committee Management Officer for the Department of Defense, pursuant to 41 CFR 102-3.150(b), waives the 15-calendar day notification requirement. This meeting is being held under the provisions of the Federal Advisory Committee Act (FACA) of 1972 (5 U.S.C., Appendix, as amended), the Government in the Sunshine Act of 1976 (5 U.S.C. 552b, as amended), and 41 CFR 102-3.140 and 102-3.150.

Purpose of the Meeting: The Department of Defense is publishing this notice to announce the following Federal advisory committee meeting of the Vietnam War Commemoration Advisory Committee. This meeting is open to the public. The Committee is asked to provide advice on the concept and design of the types of commemoration events the Vietnam War Commemoration Office (VWC) should consider supporting or coordinating during the close-out phase from 2023 through 2025. The objective for this meeting is to finalize the Advisory Committee's recommendations.

Agenda: The Committee will convene from 10:15 a.m. to 4:00 p.m. on February 8, 2019 to finalize the Committee's recommendations on the concept and types of commemoration events the Vietnam War Commemoration Office (VWC) should consider supporting or coordinating during the close-out phase from 2023 through 2025.

Meeting Accessibility: Special Accommodations: Individuals requiring special accommodations to access the public meeting should contact Mrs. Marcia Moore or Mr. Franklin at the number listed in the FOR FURTHER INFORMATION CONTACT section by February 1, 2019 so that appropriate arrangements can be made.

Written Statements: Pursuant to 41 CFR 102-3.105(j) and 102-3.140, and section 10(a)(3) of the Federal Advisory Committee Act of 1972, the public or interested organizations may submit written comments to the Committee about its mission and topics pertaining to this public meeting. Written comments should be received by the DFO by February 1, 2019. Written comments should be submitted via email to the address for the DFO given in the FOR FURTHER INFORMATION CONTACT section in either Adobe Acrobat or Microsoft Word format. Please note that since the Committee operates under the provisions of the Federal Advisory Committee Act, as amended, all submitted comments and public presentations will be treated as public documents and will be made available for public inspection, including, but not limited to, being posted on the Committee's website.

Dated: January 31, 2019.
Shelly E. Finke,
Alternate OSD Federal Register Liaison Officer, Department of Defense.

[FR Doc. 2019-01124 Filed 2-4-19; 8:45 am]

BILLING CODE 5001-06-P